NATIONAL SCIENCE FOUNDATION

Special Emphasis Panel in Advanced Networking and Infrastructure Research; Notice of Meetings

In accordance with the Federal Advisory Committee Act (Pub. L. 92-463, as amended), the National Science Foundation announces the following meetings of the Special Emphasis Panel in Advanced Networking and Infrastructure Research (#1207):

Date/time | Place
April 9-10, 2001; 8 a.m.-5 p.m. | National Science Foundation, 4201 Wilson Boulevard, Arlington, VA.
April 17-18, 2001; 8 a.m.-5 p.m. | Catamaran Resort Hotel, San Diego, CA.
April 18-19, 2001; 8 a.m.-5 p.m. | Catamaran Resort Hotel, San Diego, CA.
April 30-May 1, 2001; 8 a.m.-5 p.m. | National Science Foundation, 4201 Wilson Boulevard, Arlington, VA.

Type of Meetings: Closed.

Contact Person: Taieb Znati, National Science Foundation, 4201 Wilson Boulevard, Room 1175, Arlington, VA 22230, (703) 292-8949.

Purpose of Meetings: To provide advice and recommendations concerning proposals submitted to NSF for financial support.

Agenda: To review and evaluate information Technology Research proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 20, 2001.
Susanne Bolton,
Committee Management Officer.

[FR Doc. 01-7303 Filed 3-22-01; 8:45 am]

BILLING CODE 7555-01-M